DEPARTMENT OF ENERGY

Federal energy Regulatory Commission

[Docket No. CP00-372-000]

TCP Gathering Company; Notice of Application

June 7, 2000.

Take notice that on May 31, 2000, TCP Gathering Company (TCP Gathering), 555 Seventeenth Street, Denver, Colorado 80202-3918, filed in Docket No. CP00-372-000, an application pursuant to Section 7(b) of the Natural Gas Act (NGA), and Section 157.18 of the Federal Energy Regulatory Commission's (Commission) Regulations for permission and approval to abandon interstate transportation service, and certain natural gas facilities located in San Juan County, Utah and San Miguel County, Colorado, all as more fully set forth in the application which is on file with the Commission and open to public inspection. This filing may be viewed on the web at http://www.ferc.fed.us/online/rims.htm. Call (202)208-2222 for assistance.

TCP Gathering explains that, upon receipt of abandonment authorization, it would reconfigure its facilities, consisting of approximately 28 miles of 8-inch and 4-inch pipeline, to connect them to an existing gathering system owned and operated by TCP Gathering's new owner Tom Brown, Inc. (Tom Brown) and would operate the facilities as gathering facilities exempt from the Commission's regulation pursuant to Section 1(b) of the NGA.

Currently, TCP Gathering has only one shipper, with whom it has an interruptible transportation contract. The shipper's gas transported from the shipper's well in the Little Valley field in San Juan County, Utah for delivery to Rocky Mountain Natural Gas company, TCP Gathering's previous owner, in San Miguel County, Colorado. TCP Gathering states that, upon obtaining the requested abandonment authority, it will construct an interconnection with Tom Brown's Lisbon Field gathering system in San Juan County, Utah, and plans to gather gas from wells along the length of TCP Gathering's system in Utah and Colorado for delivery to the Lisbon Field where the gas will be processed in the Lisbon Plant.

If there are any further questions regarding this proposal, the following individual may be contacted: Bruce R. DeBoer, TCP Gathering company, 555 Seventeenth Street, Suite 1850, Denver, Colorado 80202-3918, at (303) 260-5000.

Any person desiring to be heard or to make any protest with reference to said application should, on or before June 28, 2000, file with the Federal Energy Regulatory Commission, 888 First Street, NE, Washington, DC, 20426, a protest or motion to intervene in accordance with the requirements of the Commission's Rules of Practice and Procedure (18 CFR 385.211 or 385.214) and the Regulations Under the Natural Gas Act (18 CFR 157.10). All protests filed with the Commission will be considered by it in determining the appropriate action to be taken but will not serve to make the protestants parties to the proceeding. Any person wishing to become a party to a proceeding or to participate as a party in any hearing therein must file a petition to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this document if no motion to intervene is filed within the time required herein, if the Commission on its own review of the matter finds that permission and approval of the proposed abandonment is required by the public convenience and necessity. If a motion for leave to intervene is timely filed, or if the Commission on its own motion believes that a formal hearing is required, further notice of such hearing will be duly given.

Under the procedure herein provided for, unless otherwise advised, it will be unnecessary for TCP Gathering to appear or be represented at the hearing.

David P. Boergers,
Secretary.

[FR Doc. 00-14822 Filed 6-12-00; 8:45 am]

BILLING CODE 6717-01-M